DEPARTMENT OF TRANSPORTATION

Federal Aviation Administration

14 CFR Part 39

[Docket No. FAA-2004-18784; Directorate Identifier 2004-NM-59-AD; Amendment 39-14157; AD 2005-13-20]

RIN 2120-AA64

Airworthiness Directives; Boeing Model 747-400, -400D, -400F; 767-200, -300, -300F; and 777-200 and -300 Series Airplanes

AGENCY: Federal Aviation Administration (FAA), Department of Transportation (DOT).

ACTION: Final rule.

SUMMARY: The FAA is adopting a new airworthiness directive (AD) for certain Boeing Model 747-400, -400D, -400F; 767-200, -300, -300F; and 777-200 and -300 series airplanes. This AD requires installing a jumper wire between the wiring of the fire extinguisher switch and the fuel shutoff switch for each engine, and other specified actions. This AD is prompted by a certain combination of conditions, which could cause the fuel spar shutoff valves to remain partially open. We are issuing this AD to prevent a latent open circuit that could leave the fuel spar shutoff valve in a partially open position when the engine fire switch is activated, which could result in fuel from the engine feeding an uncontrolled fire in the engine or the strut.

DATES: This AD becomes effective July 29, 2005.

The incorporation by reference of certain publications listed in the AD is approved by the Director of the Federal Register as of July 29, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-18784; the directorate identifier for this docket is 2004-NM-59-AD.

FOR FURTHER INFORMATION CONTACT: Sulmo Mariano, Aerospace Engineer, Propulsion Branch, ANM-140S, FAA, Seattle Aircraft Certification Office, 1601 Lind Avenue, SW., Renton, Washington 98055-4056; telephone (425) 917-6501; fax (425) 917-6590.

SUPPLEMENTARY INFORMATION: The FAA proposed to amend 14 CFR part 39 with an AD for certain Boeing Model 747-400, -400D, -400F; 767-200, -300, -300F; and 777-200 and -300 series airplanes. That action, published in the Federal Register on August 6, 2004 (69 FR 47802), proposed to require installing a jumper wire between the wiring of the fire extinguisher switch and the fuel shutoff switch for each engine, and other specified actions.

Comments

We provided the public the opportunity to participate in the development of this AD. We have considered the comments that have been submitted on the proposed AD.

Supportive Comment

One commenter states that they have accomplished the necessary airplane modifications on all affected Model 777-200 series airplanes in their fleet. In addition, the commenter states that no additional work is necessary to comply with Boeing Service Bulletin 777-28-0025, Revision 1, dated March 17, 2005. The commenter did not state any finding of service problems or errors in either the service bulletins or the AD, nor has the commenter suggested any change to the AD. We infer that the commenter has no objections to the AD.

Request to Revise Service Bulletin References

One commenter requests that we coordinate the release of this AD with the pending revisions to Boeing Special Attention Service Bulletins 747-28-2238, dated October 18, 2001; and 777-28-0025, dated January 10, 2002. The commenter states that several information notices describe changes to the work instructions that will be incorporated into pending service bulletin revisions. If this AD is released calling for the un-revised service bulletins, each airline would need to request an alternative method of compliance (AMOC) to allow the incorporation of the revised work instructions. We infer that the commenter wants the AD to reference the revised service bulletins.

We agree with the commenter's request to reference the revised service bulletins. We have reviewed Boeing Service Bulletins 747-28-2238, Revision 1; and 777-28-0025, Revision 1; both dated March 17, 2005. The revisions incorporate the changes described in the information notices. Paragraph (f) of this AD has been revised to refer to Revision 1 of Boeing Service Bulletins 747-28-2238 and 777-28-0025. Paragraph (g) of the proposed AD already gives credit for actions done before the effective date of this AD in accordance with the original issues of these service bulletins, so no change is needed to the final rule in this regard.

Request To Allow Standard Parts

One commenter requests that the AD be revised to allow the use of standard materials in accordance with Chapter 20 of the Boeing Standard Wiring Practices Manual in place of the specific Boeing part number called out in the applicable Boeing service bulletins. While no justification is provided, the commenter contends that the use of such standard materials would maintain an equivalent level of safety for the modification.

We do not agree with the commenter's request to use the standard materials since it is not clear what materials would be substituted or how the materials are equivalent in safety. The final rule has not been changed in this regard. However, if operators care to provide technical justification, they may request approval of an AMOC from the FAA in accordance with paragraph (h) of this AD.

Clarification of Revision to Paragraph (g) of This AD

We have removed reference to Boeing Special Attention Service Bulletin 767-28-0066, Revision 1, dated May 29, 2003, from paragraph (g) of this AD. The reference is the same as that in paragraph (f) of this AD. Paragraph (e) of this AD already gives credit for work done before the effective date of the AD.

Conclusion

We have carefully reviewed the available data, including the comments that have been submitted, and determined that air safety and the public interest require adopting the AD with the changes described previously. We have determined that these changes will neither increase the economic burden on any operator nor increase the scope of the AD.

Costs of Compliance

This AD will affect about 1,882 airplanes worldwide. We estimate that 579 airplanes of U.S. registry will be affected by this AD. The following table provides the estimated costs for U.S. operators to comply with this AD.

Estimated Costs
Action model series | Work hours | Average labor rate per hour | Parts | Cost per airplane
Installation 747-400, -400D, -400F | 4 | 65 | 1,450 | 1,710
Test 747-400, -400D, 400F | 2 | 65 | (*) | 130
Installation 767-200, -300, -300F | 4 | 65 | (*) | 760
Test 767-200, -300, -300F | 2 | 65 | (*) | 130
Installation | 4 | 65 | 220 | 480
Test 777-200, -300 | 2 | 65 | (*) | 130
*None.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-13-20 Boeing: Amendment 39-14157. Docket No. FAA-2004-18784; Directorate Identifier 2004-NM-59-AD.

Effective Date

(a) This AD becomes effective July 29, 2005.

Affected ADs

(b) None.

Applicability

(c) This AD applies to Boeing Model 747-400, -400D, and -400F series airplanes, line numbers 1 through 1276 inclusive; Model 767-200, -300, and -300F series airplanes, line numbers 1 through 850 inclusive; and Model 777-200 and -300 series airplanes, line numbers 1 through 360 inclusive; certificated in any category.

Unsafe Condition

(d) This AD was prompted by a certain combination of conditions, which could cause the fuel spar shutoff valves to remain partially open. We are issuing this AD to prevent a latent open circuit that could leave the fuel spar shutoff valve in a partially open position when the engine fire switch is activated, which could result in fuel from the engine feeding an uncontrolled fire in the engine or the strut.

Compliance

(e) You are responsible for having the actions required by this AD performed within the compliance times specified, unless the actions have already been done.

Installation of Jumper Wire

(f) Within 60 months after the effective date of this AD: Install a jumper wire between the wiring of the fire extinguisher switch and the fuel shutoff switch for each engine, and do all other specified actions in the Accomplishment Instructions of Boeing Service Bulletin 747-28-2238, Revision 1, dated March 17, 2005 (for Model 747-400, -400D, and -400F series airplanes); Boeing Special Attention Service Bulletin 767-28-0066, Revision 1, dated May 29, 2003 (for Model 767-200, -300, and -300F series airplanes); or Boeing Service Bulletin 777-28-0025, Revision 1, dated March 17, 2005 (for Model 777-200 and -300 series airplanes); as applicable.

Credit for Actions Accomplished Previously

(g) Accomplishment of the actions required by paragraph (f) of this AD before the effective date of this AD, in accordance with Boeing Special Attention Service Bulletin 747-28-2238, dated October 18, 2001; or 777-28-0025, dated January 10, 2002; as applicable; is considered acceptable for compliance with the corresponding action in paragraph (f) of this AD.

Alternative Methods of Compliance (AMOCs)

(h) The Manager, Seattle Aircraft Certification Office (ACO), FAA, has the authority to approve AMOCs for this AD, if requested in accordance with the procedures found in 14 CFR 39.19.

Material Incorporated by Reference

(i) You must use the service information listed in Table 1 of this AD to perform the actions that are required by this AD, unless the AD specifies otherwise. The Director of the Federal Register approves the incorporation by reference of these documents in accordance with 5 U.S.C. 552(a) and 1 CFR part 51. To get copies of the service information, go to Boeing Commercial Airplanes, P.O. Box 3707, Seattle, Washington 98124-2207. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Table 1.—Material Incorporated by Reference
Service bulletin | Revision level | Date
Boeing Service Bulletin 747-28-2238 | 1 | March 17, 2005.
Boeing Service Bulletin 777-28-0025 | 1 | March 17, 2005.
Boeing Special Attention Service Bulletin 767-28-0066 | 1 | May 29, 2003.

Issued in Renton, Washington, on June 14, 2005.
Kevin M. Mullin,
Acting Manager, Transport Airplane Directorate, Aircraft Certification Service.

[FR Doc. 05-12311 Filed 6-23-05; 8:45 am]

BILLING CODE 4910-13-P